DEPARTMENT OF ENERGY

Federal Energy Regulatory Commission

[Docket No. CP03-18-000]

City of Duluth Public Works & Utilities Department; Notice of Application

December 11, 2002.

Take notice that on November 29, 2002, the City of Duluth Public Works & Utilities Department (City of Duluth), filed an application with the Commission in Docket No. CP03-18-000 under section 7 of the Natural Gas Act, as amended, seeking authority to construct, install, and operate certain natural gas pipeline facilities which will be owned by the City of Duluth, all as more fully stated in the application which is open to public inspection.

The City of Duluth currently owns and operates a municipal distribution system providing natural gas service to almost 90,000 residents in and around the City of Duluth, Minnesota. The City of Duluth proposes to construct, install, and operate approximately 5.33 miles of 10-inch diameter pipeline and appurtenances. The proposed facilities would provide the incremental capacity sufficient for the City of Duluth to receive up to 35,000 Mcf/day of natural gas from an interconnection with Great Lakes Gas Transmission Company (Great Lakes) in Douglas County, Wisconsin. The City of Duluth would transport natural gas from the Great Lakes interconnection to a town border station that would be constructed in St. Louis County, Minnesota. The City of Duluth would construct the proposed facilities to increase the reliability of natural gas service to residents in the Duluth, Minnesota, area and to introduce competition into the interstate natural gas supply market. The City of Duluth would operate the proposed pipeline facilities at a maximum operating allowable pressure of 974 psig.

The City of Duluth states that it estimates the total construction cost of the proposed facilities at $3,500,000. The City of Duluth seeks to have the FERC issue a limited jurisdiction certificate of public convenience and necessity by February 28, 2003, so that the facilities may be placed in service before the commencement of the 2003-2004 heating season. The City of Duluth states that it does not propose any rates for the new facilities.

Any questions regarding the application should be directed to Gregory A. Wheeler, Esquire, as agent for the City of Duluth Public Works & Utilities Department, ProSource Technologies, Inc., 277 Coon Rapids Boulevard, Suite 304, Coon Rapids, MN 55433 or at (763) 786-1445.

Any person desiring to intervene or to protest this filing should file with the Federal Energy Regulatory Commission, 888 First Street, NE., Washington, DC 20426, in accordance with rules 211 and 214 of the Commission's rules of practice and 18 CFR 385.211 and 385.214. Protests will be considered by the Commission in determining the appropriate action to be taken, but will not serve to make protestants parties to the proceeding. Any person wishing to become a party must file a motion to intervene. All such motions or protests should be filed on or before January 2, 2003, the comment date, and, to the extent applicable, must be served on the applicant and on any other person designated on the official service list. This filing is available for review at the Commission or may be viewed on the Commission's Web site at http://www.ferc.gov using the “FERRIS” link. Enter the docket number excluding the last three digits in the docket number filed to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

A person obtaining intervenor status will be placed on the service list maintained by FERC and will receive copies of all documents filed by applicant and by every one of the intervenors. An intervenor can file for rehearing of any FERC order and can petition for court review of any such order. However, an intervenor must submit copies of comments or any other filing it makes with FERC to every other intervenor in the proceeding, as well as 14 copies with FERC.

However, a person does not have to intervene in order to have comments considered. A person, instead, may submit two copies of comments to the Secretary of FERC. Commenters will be placed on FERC's environmental mailing list, receive copies of environmental documents, and be able to participate in meetings (if any) associated with FERC's environmental review process. Commenters will not be required to serve copies of filed documents on all other parties. However, commenters will not receive copies of all documents filed by other parties or issued by FERC and will not have the right to seek rehearing or appeal FERC's final order to a federal court.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receiver copies of all documents filed by other parties or issued by the Commission (except for the mailing of environmental documents issued by the Commission) and will not have the right to seek court review of the Commission's final order.

Take further notice that, pursuant to the authority contained in and subject to the jurisdiction conferred upon FERC by sections 7 and 15 of the Natural Gas Act and FERC's rules of practice and procedure, a hearing will be held without further notice before FERC or its designee on this application if no motion to intervene is filed within the time required herein, if FERC on its own review of the matter finds that a grant of the certificate is required by the public convenience and necessity. If a motion for leave to intervene is timely filed, or if FERC on its own motion believes that a formal hearing is required, further notice of such hearing will be duly given.

If the Commission decides to set the application for a formal hearing before an Administrative Law Judge, the Commission will issue another notice describing that process. At the end of the Commission's review process, a final Commission order approving or denying a certificate will be issued.

Under the procedure herein provided for, unless otherwise advised, it will be unnecessary for the City of Duluth to appear or be represented at the hearing.

Linwood A. Watson, Jr.,
Deputy Secretary.

[FR Doc. 02-31723 Filed 12-17-02; 8:45 am]

BILLING CODE 6717-01-P